DEPARTMENT OF HOMELAND SECURITY

Federal Emergency Management Agency

[Docket ID FEMA-2012-0003: Internal Agency Docket No. FEMA-B-1241]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 26, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1241, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps. fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Garfield County, Colorado, and Incorporated Areas
Maps Available for Inspection Online at: http://www.bakeraecom.com/index.php/region-viii/preliminary-map-products/
City of Glenwood Springs | City Hall, 101 West 8th Street, Glenwood Springs, CO 81601.
City of Rifle | City Hall, 202 Railroad Avenue, Rifle, CO 81650.
Town of New Castle | Town Hall, 450 West Main Street, New Castle, CO 81647.
Town of Parachute | Town Hall, 222 Grand Valley Way, Parachute, CO 81635.
Town of Silt | Town Hall, 231 North 7th Street, Silt, CO 81652.
Unincorporated Areas of Garfield County | Garfield County Courthouse, 108 8th Street, Glenwood Springs, CO 81601.
Brevard County, Florida, and Incorporated Areas
Maps Available for Inspection Online at: http://www.bakeraecom.com/index.php/florida/brevard/
Cape Canaveral Port Authority | Station Director's Office, 200 George King Boulevard, Cape Canaveral, FL 32920.
City of Cape Canaveral | City Hall, 105 Polk Avenue, Cape Canaveral, FL 32920.
City of Cocoa | City Hall, 65 Stone Street, Cocoa, FL 32922.
City of Cocoa Beach | City Hall, Building Department, 2 South Orlando Avenue, Cocoa Beach, FL 32931.
City of Indian Harbour Beach | City Hall, 2055 South Patrick Drive, Indian Harbour Beach, FL 32937.
City of Melbourne | City Hall, 900 East Strawbridge Avenue, Melbourne, FL 32901.
City of Palm Bay | City Hall, 120 Malabar Road Southeast, Palm Bay, FL 32907.
City of Rockledge | City Hall, Building Department, 1600 Huntington Lane, Rockledge, FL 32956.
City of Satellite Beach | City Hall, Building and Zoning Department, 565 Cassia Boulevard, Satellite Beach, FL 32937.
City of Titusville | City Hall, Department of Planning and Zoning, 555 South Washington Avenue, Titusville, FL 32796.
City of West Melbourne | City Hall, 2240 Minton Road, West Melbourne, FL 32904.
Town of Grant-Valkaria | Town Hall, 4240 U.S. Route 1, Grant-Valkaria, FL 32949.
Town of Indialantic | Town Hall, 216 5th Avenue, Indialantic, FL 32903.
Town of Malabar | Town Hall, 2725 Malabar Road, Malabar, FL 32950.
Town of Melbourne Beach | Town Hall, 507 Ocean Avenue, Melbourne Beach, FL 32951.
Town of Melbourne Village | Town Hall, 555 Hammock Road, Melbourne Village, FL 32904.
Town of Palm Shores | Town Clerk's Office, 151 Palm Circle, Palm Shores, FL 32940.
Unincorporated Areas of Brevard County | Brevard County Public Works Department, Brevard County Government Center, 2725 Judge Fran Jamieson Way, Viera, FL 32940.
Broward County, Florida, and Incorporated Areas
Maps Available for Inspection Online at: http://www.bakeraecom.com/index.php/florida/broward/
City of Coconut Creek | City Hall, 4800 West Copans Road, Coconut Creek, FL 33063.
City of Cooper City | City Hall, 9090 Southwest 50th Place, Cooper City, FL 33328.
City of Coral Springs | City Hall, 9551 West Sample Road, Coral Springs, FL 33065.
City of Dania Beach | City Hall, 100 West Dania Beach Boulevard, Dania Beach, FL 33004.
City of Deerfield Beach | City Hall, 150 Northeast 2nd Avenue, Deerfield Beach, FL 33441.
City of Fort Lauderdale | City Hall, 100 North Andrews Avenue, Fort Lauderdale, FL 33301.
City of Hallandale Beach | City Hall, 400 South Federal Highway, Hallandale Beach, FL 33009.
City of Hollywood | City Hall, 2600 Hollywood Boulevard, Hollywood, FL 33020.
City of Lauderdale Lakes | City Hall, 4300 Northwest 36th Street, Lauderdale Lakes, FL 33319.
City of Lauderhill | City Hall, 2000 City Hall Drive, Lauderhill, FL 33313.
City of Lighthouse Point | City Hall, 2200 Northeast 38th Street, Lighthouse Point, FL 33064.
City of Margate | City Hall, 5790 Margate Boulevard, Margate, FL 33063.
City of Miramar | City Hall, 2300 Civic Center Place, Miramar, FL 33025.
City of North Lauderdale | City Hall, 701 Southwest 71st Avenue, North Lauderdale, FL 33068.
City of Oakland Park | City Hall, 3650 Northeast 12th Avenue, Oakland Park, FL 33334.
City of Parkland | City Hall, 6600 University Drive, Parkland, FL 33067.
City of Pembroke Pines | City Hall, 10100 Pines Boulevard, Pembroke Pines, FL 33026.
City of Plantation | City Hall, 400 Northwest 73rd Avenue, Plantation, FL 33317.
City of Pompano Beach | City Hall, 100 West Atlantic Boulevard, Pompano Beach, FL 33060.
City of Sunrise | City Hall, 10770 West Oakland Park Boulevard, Sunrise, FL 33351.
City of Tamarac | City Hall, 7525 Northwest 88th Avenue, Tamarac, FL 33321.
City of West Park | City Hall, 1965 South State Route 7, West Park, FL 33023.
City of Weston | City Hall, 17200 Royal Palm Boulevard, Weston, FL 33326.
City of Wilton Manors | City Hall, 524 Northeast 21st Court, Wilton Manors, FL 33305.
Seminole Tribe of Florida | 6300 Stirling Road, Hollywood, FL 33024.
Town of Davie | Town Hall, 6591 Orange Drive, Davie, FL 33314.
Town of Hillsboro Beach | Town Hall, 1210 Hillsboro Mile, Hillsboro Beach, FL 33062.
Town of Lauderdale-By-The-Sea | Town Hall, 4501 Ocean Drive, Lauderdale-By-The-Sea, FL 33308.
Town of Pembroke Park | Town Hall, 3150 Southwest 52nd Avenue, Pembroke Park, FL 33023.
Town of Southwest Ranches | Town Hall, 6589 Southwest 160th Avenue, Southwest Ranches, FL 33331.
Unincorporated Areas of Broward County | Broward County Department of Natural Resource Protection, 218 Southwest, 1st Avenue, Fort Lauderdale, FL 33301.
Village of Lazy Lake | Village Hall, 2250 Lazy Lane, Lazy Lake, FL 33305.
Village of Sea Ranch Lakes | Village Hall, 1 Gatehouse Road, Sea Ranch Lakes, FL 33308.
Calhoun County, Florida, and Incorporated Areas
Maps Available for Inspection Online at: http://portal.nwfwmdfloodmaps.com
City of Blountstown | City Hall, 20591 Central Avenue, West Blountstown, FL 32424.
Town of Altha | Town Hall, 25586 North Main Street, Altha, FL 32421.
Unincorporated Areas of Calhoun County | Calhoun County Courthouse, 20859 Central Avenue, East Blountstown, FL 32424.
Liberty County, Florida, and Incorporated Areas
Maps Available for Inspection Online at: http://portal.nwfwmdfloodmaps.com
City of Bristol | City Hall, 12444 Northwest Virginia G. Weaver Street, Bristol, FL 32321.
Unincorporated Areas of Liberty County | Liberty County Building Department, 10818 Northwest State Road 20, Bristol, FL 32321.
Fulton County, Georgia, and Incorporated Areas
Maps Available for Inspection Online at: http://www.georgiadfirm.com/status/mapmodStatus.html
City of Alpharetta | Engineering Office, 1790 Hembree Road, Alpharetta, GA 30009.
City of Atlanta | Office of Site Development, 55 Trinity Avenue, Suite 4400, Atlanta, GA 30303.
City of Chattahoochee Hills | City Hall, 6505 Rico Road, Chattahoochee Hills, GA 30268.
City of College Park | Office of Engineering, 3667 Main Street, College Park, GA 30337.
City of East Point | City Hall Annex, 1526 East Forrest Avenue, East Point, GA 30344.
City of Fairburn | City Hall, 56 Malone Street, Fairburn, GA 30213.
City of Hapeville | City Hall, 3468 North Fulton Avenue, Hapeville, GA 30354.
City of Johns Creek | City Hall, 12000 Findley Road, Suite 400, Johns Creek, GA 30097.
City of Milton | City Hall, 13000 Deerfield Parkway, Suite 107, Milton, GA 30004.
City of Mountain Park | City Hall, 118 Lakeshore Drive, Mountain Park, GA 30075.
City of Palmetto | City Hall, 509 Toombs Street, Palmetto, GA 30268.
City of Roswell | City Hall, 38 Hill Street, Suite 235, Roswell, GA 30075.
City of Sandy Springs | City Hall, 7840 Roswell Road, Building 500, Sandy Springs, GA 30350.
City of Union City | City Hall, 5047 Union Street, Union City, GA 30291.
Unincorporated Areas of Fulton County | Fulton County Office of Environmental and Commmunity Development, 141 Pryor Street, Suite 2085, Atlanta, GA 30303.
Bullitt County, Kentucky, and Incorporated Areas
Maps Available for Inspection Online at: http://www.bakeraecom.com/index.php/kentucky/bullitt
City of Fox Chase | Nina Mooney Courthouse Annex Building, 149 North Walnut Street, 3rd Floor, Shepherdsville, KY 40165.
City of Hebron Estates | Hebron Estates City Office, 3407 Burkland Boulevard, Shepherdsville, KY 40165.
City of Hillview | Hillview City Hall, 283 Crestwood Lane, Louisville, KY 40229.
City of Lebanon Junction | City Hall, 271 Main Street, Lebanon Junction, KY 40150.
City of Mount Washington | City Hall, 275 Snapp Street, Mount Washington, KY 40047.
City of Shepherdsville | City Hall, 634 Conestoga Parkway, Shepherdsville, KY 40165.
Unincorporated Areas of Bullitt County | Nina Mooney Courthouse Annex Building, 149 North Walnut Street, 3rd Floor, Shepherdsville, KY 40165.
Warren County, Mississippi, and Incorporated Areas
Maps Available for Inspection Online at: http://www.geology.deq.ms.gov/floodmaps/Projects/FY2009/?county=Warren
City of Vicksburg | Vicksburg City Hall, 1009 Cherry Street, Vicksburg, MS 39183.
Unincorporated Areas of Warren County | Warren County Courthouse, 1009 Cherry Street, Vicksburg, MS 39183.

(Catalog of Federal Domestic Assistance No. 97.022, “Flood Insurance.”)

Dated: March 13, 2012.
Sandra K. Knight,
Deputy Associate Administrator for Mitigation, Department of Homeland Security, Federal Emergency Management Agency.

[FR Doc. 2012-7397 Filed 3-27-12; 8:45 am]

BILLING CODE 9110-12-P